DEPARTMENT OF COMMERCE

National Telecommunications and Information Administration

BroadbandUSA Webinar Series

AGENCY: National Telecommunications and Information Administration, U.S. Department of Commerce.

ACTION: Notice of open meeting; date changes.

SUMMARY: The National Telecommunications and Information Administration (NTIA), as part of its BroadbandUSA program, announced a series of webinars to engage the public and stakeholders with information to accelerate broadband connectivity, improve digital inclusion, strengthen policies and support local priorities in a notice published on July 17, 2018. This notice provides new dates for the November 2018 and December 2018 webinars.

DATES: BroadbandUSA will hold a webinar on November 14, 2018, and December 12, 2018, from 2:00 p.m. to 3:00 p.m. Eastern Time.

ADDRESSES: This is a virtual meeting. NTIA will post the registration information on its BroadbandUSA website, https://broadbandusa.ntia.doc.gov/event.

FOR FURTHER INFORMATION CONTACT: Elaine Sloan, National Telecommunications and Information Administration, U.S. Department of Commerce, Room 4872, 1401 Constitution Avenue NW, Washington, DC 20230; telephone: (202) 482-8231; email: broadbandusawebinars@ntia.doc.gov. Please direct media inquiries to NTIA's Office of Public Affairs, (202) 482-7002; email press@ntia.doc.gov.

SUPPLEMENTARY INFORMATION: On July 17, 2018, NTIA published a Notice announcing that it would host a series of webinars through its BroadbandUSA program on a monthly basis to engage the public and stakeholders with information to accelerate broadband connectivity, improve digital inclusion, strengthen policies and support local priorities. See NTIA, BroadbandUSA Webinar Series, Notice of open meetings—webinar series, 83 FR 33211 (July 17, 2018). In the original notice, NTIA announced that the webinars would be held from 2:00 p.m. to 3:00 p.m. Eastern Time on the third Wednesday of every month, beginning October 17, 2018 and continuing through September 18, 2019. Through this notice, NTIA corrects the dates for the November 2018 and December 2018 webinars as November 14, 2018, and December 12, 2018, from 2:00 p.m. to 3:00 p.m. Eastern Time, respectively. All other information remains the same.

Dated: September 25, 2018.
Kathy D. Smith,
Chief Counsel, National Telecommunications and Information Administration.

[FR Doc. 2018-21151 Filed 9-27-18; 8:45 am]

BILLING CODE 3510-60-P